FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011702-001.

Title: Hapag-Lloyd/Lykes Space Charter Agreement.

Parties: Lykes Lines Ltd., LLC, Hapag-Lloyd Container Linie GmbH.

Synopsis: The proposed agreement modification adds Puerto Rico to the geographic scope and revises the port rotation reflected in the Appendix of the agreement.

By Order of the Federal Maritime Commission.
Dated: May 30, 2003.
Bryant L. VanBrakle,
Secretary.

[FR Doc. 03-14051 Filed 6-3-03; 8:45 am]

BILLING CODE 6730-01-P